DEPARTMENT OF TRANSPORTATION

Federal Motor Carrier Safety Administration

[Docket No. FMCSA-2011-0102]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before August 8, 2011.

ADDRESSES: You may submit comments bearing the Federal Docket Management System (FDMS) Docket No. FMCSA-2011-0102 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowldgment page that appears after submitting comments on-line.

Privacy Act: Anyone may search the electronic form of all comments received into any of our dockets by the name of the individual submitting the comment (or of the person signing the comment, if submitted on behalf of an association, business, labor union, etc.). You may review DOT's Privacy Act Statement for the FDMS published in the Federal Register on January 17, 2008 (73 FR 3316), or you may visit http://edocket.access.gpo.gov/2008/pdf/E8-785.pdf.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 16 individuals listed in this notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Stanley C. Anders

Mr. Anders, age 58, has had amblyopia in his left eye since childhood. The best corrected visual acuity in his right eye is 20/20 and in his left eye, 20/80. Following an examination in 2011, his optometrist noted, “His right eye provides the necessary vision for him to perform the driving task of operating a commercial vehicle.” Mr. Anders reported that he has driven tractor-trailer combinations for 38 years, accumulating 2.7 million miles. He holds a Class A Commercial Driver's License (CDL) from South Dakota. His driving record for the last 3 years shows no crashes and no convictions for moving violations in a CMV.

Joel A. Cabrera

Mr. Cabrera, 31, has a prosthetic left eye due to retinoblastoma that occurred at age 2. The corrected visual acuity in his right eye is 20/15 and in his left eye, no light perception. Following an examination in 2011, his optometrist noted, “On the basis of my clinical observations, Joel meets all the visual requirements to drive a commercial vehicle.” Mr. Cabrera reported that he has driven tractor-trailer combinations for 3 years, 63,000 miles. He holds a Class A CDL from Florida. His driving record for the last 3 years shows no crashes and no convictions for moving violations in a CMV.

Sherman W. Clapper

Mr. Clapper, 50, has had amblyopia in his right eye since childhood. The best corrected visual acuity in his right eye is count-finger vision and in his left eye, 20/20. Following an examination in 2011, his ophthalmologist noted, “He should have sufficient vision to perform his tasks as a commercial driver.” Mr. Clapper reported that he has driven straight trucks for 15 years, accumulating 7,500 miles and tractor-trailer combinations for 4 years, accumulating 400 miles. He holds a Class A CDL from Idaho. His driving record for the last 3 years shows no crashes and no convictions for moving violations in a CMV.

Eric C. Esplin

Mr. Esplin, 46, has loss of vision in his right eye due to a traumatic injury that occurred in 1994. The best corrected visual acuity in his right eye is hand motion vision and in his left eye, 20/20. Following an examination in 2011, his optometrist noted, “It is my opinion that Eric has adapted well to the loss of sensitivity in that right eye and is capable of maintaining commercial driver's license privileges.” Mr. Esplin reported that he has driven straight trucks for 30 years, accumulating 180,000 miles and tractor-trailer combinations for 26 years, accumulating 260,000 miles. He holds a Class A CDL from Utah. His driving record for the last 3 years shows no crashes and no convictions for moving violations in a CMV.

Ronald R. Fournier

Mr. Fournier, 52, has amblyopia in his right eye due to anisometropia since birth. The best corrected visual acuity in his right eye is 20/70 and in his left eye, 20/20. Following an examination in 2011, his optometrist noted, “It is my opinion, Ronald Fournier has sufficient vision to perfrom the driving tasks requried to operate a commercial vehicle.” Mr. Fournier reported that he has driven straight trucks for 28 years, accumulating 154,000 miles and tractor-trailer combinations for 19 years, accumulating 104,500 miles. He holds a Class A CDL from New York. His driving record for the last 3 years shows no crashes and no convictions for moving violations in a CMV.

Ronald D. Jackman, II

Mr. Jackman, 44, has had ambylopia in his right eye since childhood. The visual acuity in his right eye is 20/50 and in his left eye, 20/20. Following an examination in 2011, his optometrist noted, “In my medical opinion, this patient has adequate vision to operate a commercial vehicle.” Mr. Jackman reported that he has driven straight trucks for 22 years, accumulating 286,000 miles and tractor-trailer combinations for 22 years, accumulating 286,000 miles. He holds a Class A CDL from Nevada. His driving record for the last 3 years shows no crashes and no convictions for moving violations in a CMV.

Thomas W. Kent

Mr. Kent, 53, has central scotoma in his left eye due to a traumatic injury sustained in 1982. The visual acuity in his right eye is 20/20 and in his left eye, hand motion vision. Following an examination in 2011, his optometrist noted, “My medical opinion is that the patient does have adequate vision to perfrom the driving tasks requried to operate a commercial vehicle.” Mr. Kent reported that he has driven straight trucks for 32 years, accumulating 960,000 miles and tractor-trailer combinations for 10 years, accumulating 200,000 miles. He holds an operator's license from Indiana. His driving record for the last 3 years shows no crashes and no convictions for moving violations in a CMV.

Brian L. Keszler

Mr. Keszler, 33, has had amblyopia in his left eye since childhood. The best corrected visual acuity in his right eye is 20/20 and in his left eye, 20/70. Following an examination in 2011, his optometrist noted, “It is my professional opinion that Mr. Keszler has sufficient vision to perform the driving tasks required to operate a commerical vehicle, considering the requirements are fulfilled of wearing glasses at all times and using a working, correctly adjusted left/driver's side mirror required at all times.” Mr. Keszler reported that he has driven straight trucks for 15 years, accumulating 150,600 miles. He holds a Class R operator's license from Colorado. His driving record for the last 3 years shows no crashes and no convictions for moving violations in a CMV.

Gerald Kortesmaki

Mr. Kortesmaki, 48, has a congenital cataract in his left eye. The best corrected visual acuity in his right eye is 20/20 and in his left eye, 20/50. Following an examination in 2010, his optomerist noted, “It is my opinion that Mr. Kortesmaki has sufficient vision to operate a commercial vehicle.” Mr. Kortesmaki reported that he has driven straight trucks for 32 years, accumulating 640,000 miles. He holds a Class D operator's license from Minnesota. His driving record for the last 3 years shows no crashes and no convictions for moving violations in a CMV.

Craig C. Lowry

Mr. Lowry, 39, has loss of vision in his right eye due to a retinal detachment that occurred in 2006. The visual acuity in his right eye is 20/200 and in his left eye, 20/20. Following an examination in 2010, his optometrist noted, “I believe Craig has sufficient vision to perfrom the driving tasks requried to operate a commercial vehicle.” Mr. Lowry reported that he has driven straight trucks for 11 years, accumulating 440,000 miles and tractor-trailer combinations for 17 years, accumulating 1 million miles. He holds a Class A CDL from Montana. His driving record for the last 3 years shows no crashes and no convictions for moving violations in a CMV.

Robert J. MacInnis

Mr. MacInnis, 58, has had amblyopia in his right eye since birth. The best corrected visual acuity in his right eye is 20/50 and in his left eye, 20/20. Following an examination in 2010, his optometrist noted, “His vision is stable and sufficient to perform the driving tasks requried to operate a commercial motor vehicle.” Mr. MacInnis reported that he has driven straight trucks for 5 years, accumulating 13,500 miles and tractor-trailer combinations for 21 years, accumulating 2 million miles. He holds a Class A CDL from Massachusetts. His driving record for the last 3 years shows no crashes and no convictions for moving violations in a CMV.

Gordon S. Newman

Mr. Newman, 50, has no light perception in his left eye due to a traumatic injury that occurred eight years ago. The best corrected visual acuity in his right eye is 20/200 and in his left eye, no light perception. Following an examination in 2010, his optometrist noted, “In my medical opinion, Mr. Newman has sufficient vision to perform the driving tasks required of him.” Mr. Newman reported that he has driven straight trucks for 18 years, accumulating 270,000 miles. He holds a Class A CDL from Illinois. His driving record for the last 3 years shows no crashes and no convictions for moving violations in a CMV.

Adolph L. Romero

Mr. Romero, 48, has had refractive amblyopia in his left eye since childhood. The visual acuity in his right eye is 20/20 and in his left eye, 20/80. Following an examination in 2011, his ophthalmologist noted, “I certify that in my medical opinion the patient's visual acuity is adequate for both daylight and nighttime driving and the visual acuity is sufficient to perform the driving tasks required to operate a commercial vehicle.” Mr. Romero reported that he has driven straight trucks for 25 years, accumulating 112,500 miles and tractor-trailer combinations for 10 years, accumulating 20,000 miles. He holds a Class E operator's license from Florida. His driving record for the last 3 years shows no crashes and no convictions for moving violations in a CMV.

Rodney W. Sukalski

Mr. Sukalski, 54, has had amblyopia in his right eye since childhood. The best corrected visual acuity in his right eye is 20/200 and in his left eye, 20/15. Following an examination in 2010, his optometrist noted, “Yes, in my opinion I feel that Rodney Sukalski has adequate vision to drive a commercial vehicle.” Mr. Sukalski reported that he has driven straight trucks for 15 years, accumulating 45,000 miles. He holds a Class A CDL from Minnesota. His driving record for the last 3 years shows no crashes and no convictions for moving violations in a CMV.

Sherman W. Clapper

Mr. Clapper, 50, has had amblyopia in his right eye since childhood. The best corrected visual acuity in his right eye is count-finger vision and in his left eye, 20/20. Following an examination in 2011, his ophthalmologist noted, “He should have sufficient vision to perform his tasks as a commercial driver”. Mr. Clapper reported that he has driven straight trucks for 15 years, accumulating 7,500 miles and tractor-trailer combinations for 4 years, accumulating 400 miles. He holds a Class A CDL from Idaho. His driving record for the last 3 years shows no crashes and no convictions for moving violations in a CMV.

Larry D. Warneke

Mr. Warneke, 49, has had exotropia and ambylopia in his left eye since birth. The visual acuity in his right eye is 20/15 and in his left eye, 20/200. Following an examination in 2011, his optometrist noted, “It is my opinion that this man has sufficient vision to drive as he has proved within Washington State since 1987 when driving commercial vehicles.” Mr. Warneke reported that he has driven straight trucks for 20 years, accumulating 800,000 miles and tractor-trailer combinations for 23 years, accumulating 115,000 miles. He holds a Class A CDL from Washington. His driving record for the last 3 years shows no crashes and no convictions for moving violations in a CMV.

Lonnie D. Wendinger

Mr. Wendinger, 56, has had retinal scars in both eyes due to toxoplasmosis since birth. The best corrected visual acuity in his right eye is 20/20 and in his left eye, 20/70. Following an examination in 2010, his optometrist noted, “In my medical opinion, Lonnie has sufficient vision to perform the driving tasks necessary to operate the commercial vehicle.” Mr. Wendinger reported that he has driven straight trucks for 40 years, accumulating 1 million miles and tractor-trailer combinations for 20 years, accumulating 600,000 miles. He holds a Class A CDL Minnesota. His driving record for the last 3 years shows no crashes and no convictions for moving violations in a CMV.

Request for Comments

In accordance with 49 U.S.C. 31136(e) and 31315, FMCSA requests public comment from all interested persons on the exemption petitions described in this notice. The Agency will consider all comments received before the close of business August 8, 2011. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 29, 2011.
Larry W. Minor,
Associate Administrator for Policy.

[FR Doc. 2011-17183 Filed 7-7-11; 8:45 am]

BILLING CODE 4910-EX-P